NUCLEAR REGULATORY COMMISSION

[Docket No. NRC-2012-0150]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register Notice with a 60-day comment period on this information collection on July 27, 2012 (77 FR 44290).

1. Type of submission, new, revision, or extension: Extension.

2. The title of the information collection: NRC Form 590, “Application/Permit for Use of the Two White Flint North (TWFN) Auditorium.”

3. Current OMB approval number: 3150-0181.

4. The form number if applicable: NRC Form 590.

5. How often the collection is required: Each time public use of the auditorium is requested.

6. Who will be required or asked to report: Members of the public requesting use of the NRC Auditorium.

7. An estimate of the number of annual responses: 5.

8. The estimated number of annual respondents: 5.

9. An estimate of the total number of hours needed annually to complete the requirement or request: 1.25 hours (5 requests × 15 minutes per request).

10. Abstract: In accordance with the Public Buildings Act of 1959, an agreement was reached between the Maryland-National Capital Park and Planning Commission, the General Services Administration, and the NRC that the NRC auditorium will be made available for public use. Public users of the auditorium will be required to complete NRC Form 590, Application/Permit for Use of Two White Flint North Auditorium. The information is needed to allow for administrative and security review and scheduling, and to make a determination that there are no anticipated problems with the requester prior to utilization of the facility.

The public may examine and have copied for a fee publicly available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by December 20, 2012. Comments received after this date will be considered if it is practical to do so, but assurance of consideration cannot be given to comments received after this date.

Chad Whiteman, Desk Officer, Office of Information and Regulatory Affairs (3150-0181), NEOB-10202, Office of Management and Budget, Washington, DC 20503.

Comments can also be emailed to Chad_S_Whiteman@omb.eop.gov or submitted by telephone at 202-395-4718.

The NRC Clearance Officer is Tremaine Donnell, 301-415-6258.

For the Nuclear Regulatory Commission.
Dated at Rockville, Maryland, this 14th day of November 2012.
Tremaine Donnell,
NRC Clearance Officer, Office of Information Services.

[FR Doc. 2012-28188 Filed 11-19-12; 8:45 am]

BILLING CODE 7590-01-P